FEDERAL MARITIME COMMISSION

Ocean Transportation Intermediary License Reissuances

The Commission gives notice that the following Ocean Transportation Intermediary license has been reissued pursuant to section 40901 of the Shipping Act of 1984 (46 U.S.C. 40101).

License No.: 023327N.

Name: G & F West Indies Shipping, Inc.

Address: 1416 Blue Hill Avenue, Boston, MA 02125.

Date Reissued: June 26, 2012.

Vern W. Hill,
Director, Bureau of Certification and Licensing.

[FR Doc. 2012-20079 Filed 8-15-12; 8:45 am]

BILLING CODE 6730-01-P